FEDERAL MARITIME COMMISSION

[Petition No. P5-03]

Petition of National Customs Brokers and Forwarders Association of America, Inc., for Limited Exemption from Certain Tariff Requirements of the Shipping Act of 1984; Notice of Filing

Notice is hereby given that National Customs Brokers and Forwarders Association of America, Inc., (“Petitioner”) has petitioned, pursuant to Section 16 of the Shipping Act of 1984, 46 U.S.C. app. 1715, 46 CFR 502.67, and 502.69, for an exemption from the provisions of Section 8 and 10 of the Shipping of 1984, which require non-vessel ocean common carriers (“NVOCCs”) to establish, publish, maintain and enforce tariffs setting forth ocean freight rates. Alternatively, the Petitioner requests that the Commission consider a more limited exemption and rulemaking that would allow NVOCCs to establish “range rates.”

In order for the Commission to make a thorough evaluation of the Petition, interested persons are requested to submit views or arguments in reply to the Petition no later than September 5, 2003. Replies shall consist of an original and 15 copies, be directed to the Secretary, Federal Maritime Commission, 800 North Capitol Street, NW., Washington, DC 20573-0001, and be served on Petitioner's counsels, Edward D. Greenberg, Esq., and David K. Monroe, Esq., Galland Kharasch Greenberg Fellman & Swirsky, P.C., 1054 Thirty-First Street, NW., Washington, DC 20037-4492. It is also requested that a copy of the reply be submitted in electronic form (WordPerfect, Word or ASCII) on diskette or e-mailed to Secretary@fmc.gov. Copies of the petition are available at the Office of the Secretary of the Commission, 800 N. Capitol Street, NW., Room 1046. A copy may also be obtained by sending a request to secretary@fmc.gov or by calling (202) 523-5725. Parties participating in this proceeding may elect to receive service of the Commission's issuances in this proceeding through e-mail in lieu of service by U.S. mail. A party opting for electronic service shall advise the Office of the Secretary in writing and provide an e-mail address where service can be made. Such request may be directed to secretary@fmc.gov.

Karen V. Gregory,
Acting Assistant Secretary.

[FR Doc. 03-21124 Filed 8-18-03; 8:45 am]

BILLING CODE 6730-01-P